DEPARTMENT OF ENERGY

Federal Energy Regulatory Commission

[Docket Nos. EG23-79-000, EG23-79-000, EG23-79-000, EG23-80-000, EG23-81-000, EG23-82-000, EG23-83-000, EG23-84-000, EG23-85-000, EG23-86-000, EG23-87-000]

Danish Fields Solar LLC, Lockhart ESS, LLC, SR Snipesville III, LLC, SR McNeal, LLC, Braes Bayou II, LLC, McFarland Solar A, LLC, Sweetland Wind Farm, LLC, Nestlewood Solar I LLC, North Central Valley Energy Storage, LLC; Notice of Effectiveness of Exempt Wholesale Generator Status

Take notice that during the month of April 2023, the status of the above-captioned entities as Exempt Wholesale Generators became effective by operation of the Commission's regulations. 18 CFR 366.7(a) (2022).

Dated: May 2, 2023.
Debbie-Anne A. Reese,
Deputy Secretary.

[FR Doc. 2023-09976 Filed 5-9-23; 8:45 am]

BILLING CODE 6717-01-P